DEPARTMENT OF HOUSING AND URBAN DEVELOPMENT

[Docket No. FR-4907-N-34]

Notice of Proposed Information Collection: Comment Request; FHA Fee Inspector Panel Application Package

AGENCY: Office of the Assistant Secretary for Housing-Federal Housing Commissioner, HUD.

ACTION: Notice

SUMMARY: The proposed information collection requirement described below will be submitted to the Office of Management and Budget (OMB) for review, as required by the Paper work Reduction Act. The Department is soliciting public comments on the subject proposal.

DATES: Comments Due Date: March 7, 2005.

ADDRESSES: Interested persons are invited to submit comments regarding this proposal. Comments should refer to the proposal by name and/or OMB Control Number and should be sent: Wayne Eddins, Reports Management Officer, Department of Housing and Urban Development, 451 7th Street, SW., L'Enfant Plaza Building, Room 8001, Washington, DC 20410 or Wayne_Eddins@hud.gov.

FOR FURTHER INFORMATION CONTACT: Joyce Johnson, Valuation Manager, Office of Single Family Program Development, Office of Housing, Room 9270, Department of Housing and Urban Development, 451 7th Street SW., Washington, DC 20410, telephone (202) 708-2121, (this is not a toll free number), for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This notice also lists the following information:

Title of Proposal: FHA Fee Inspector Panel Application Package.

OMB Control Number, if Applicable: 2502-0548.

Description of the Need for the Information and Proposed Use: The FHA Inspector Roster is a national listing of FHA approved inspectors who determine the quality of construction of houses before they can be accepted as security for FHA insured loans. The use of qualified inspectors is critical to minimizing the placement of FHA mortgage insurance on poorly constructed dwellings. FHA approved mortgages use the FHA Inspector Roster to select qualified inspectors.

Agency Form Numbers, if Applicable: Form HUD-92563.

Estimation of the Total Numbers of Hours Needed to Prepare the Information Collection Including Number of Respondents, Frequency of Response, and Hours of Response: The number of respondents is 1,000, the frequency of response is on occasion, and the burden hours are 3.5 hours per submission. The cost of providing the information is $30.00 per hour, for a total annual cost to respondents of $105,000 (1,000 x 3.5 x $30 = $105,000).

Status of the Proposed Information Collection: Request for extension of a currently approved collection. The form HUD-92563, is currently approved under OMB Control Number 2502-0538 with an expiration date of 06/30/2006.

Authority: The Paperwork Reduction Act of 1995, 44 U.S.C., Chapter 35, as amended.

Dated: December 20, 2004.
Sean G. Cassidy,
General Deputy Assistant Secretary for Housing-Deputy Federal Housing Commissioner.

[FR Doc. 05-213 Filed 1-4-05; 8:45 am]

BILLING CODE 7120-32-M